DEPARTMENT OF COMMERCE

International Trade Administration

[C-533-870]

Certain New Pneumatic Off-the-Road Tires From India: Notice of Correction to the Final Results, and Amended Final Results of Countervailing Duty Administrative Review; 2021

AGENCY: Enforcement and Compliance, International Trade Administration, Department of Commerce.

ACTION: Notice; correction.

SUMMARY: On October 3, 2023, the U.S. Department of Commerce (Commerce) published in the Federal Register the final results of the administrative review of the countervailing duty (CVD) order on certain new pneumatic off-the-road tires from India, covering the period of review (POR) January 1, 2021, through December 31, 2021. Commerce is amending the final results to correct ministerial errors in the calculations for ATC Tires Private Limited (ATC), Balkrishna Tires Ltd. (BKT), and companies not selected for individual examination.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Correction

In the Federal Register of October 3, 2023, in FR Doc 2023-21837, on page 68102, in the first column, correct the Final Results of Review to read:

Final Results of Review

We determine that the following total net countervailable subsidy rates exist for the period January 1, 2021, through December 31, 2021:

Producer/exporter | Subsidy rate (percent ad valorem)
ATC Tires Private Limited ¹ | 2.17.
Balkrishna Industries Ltd | 0.32 (de minimis).
Companies Not Selected for Individual Examination ² | 2.17.

Dated: November 17, 2023.
Abdelali Elouaradia,
Deputy Assistant Secretary for Enforcement and Compliance.

¹ This rate applies to ATC, ATC Tires AP Private Ltd., and Yokohama India Private Limited.

² See Appendix.

Appendix

List of Companies Not Selected for Individual Examination

Apollo Tyres Ltd.

Asian Tire Factory Ltd.

Cavendish Industries Ltd.

CEAT Ltd.

Celite Tyre Corporation

Emerald Resilient Tyre Manufacturer

HRI Tires India

Innovative Tyres & Tubes Limited

JK Tyres and Industries Ltd.

K.R.M. Tyres

M/S. Caroline Furnishers Pvt Ltd.

MRF Limited

MRL Tyres Limited (Malhotra Rubbers Ltd.)

OTR Laminated Tyres (I) Pvt. Ltd.

Rubberman Enterprises Pvt. Ltd.

Sheetla Polymers

Speedways Rubber Company

Sun Tyres & Wheel Systems

Sundaram Industries Private Limited

Superking Manufacturers (Tyre) Pvt., Ltd.

TVS Srichakra Limited

[FR Doc. 2023-26032 Filed 11-24-23; 8:45 am]

BILLING CODE 3510-DS-P